INTERNATIONAL TRADE COMMISSION

[Investigation Nos. 731-TA-986-987 (Fourth Review)]

Ferrovanadium From China and South Africa; Determinations

On the basis of the record ¹ developed in the subject five-year reviews, the United States International Trade Commission (“Commission”) determines, pursuant to the Tariff Act of 1930 (“the Act”), that revocation of the antidumping duty orders on ferrovanadium from China and South Africa would be likely to lead to continuation or recurrence of material injury to an industry in the United States within a reasonably foreseeable time.

¹ The record is defined in § 207.2(f) of the Commission's Rules of Practice and Procedure (19 CFR 207.2(f)).

Background

The Commission instituted these reviews on July 1, 2025 (90 FR 28774) and determined on November 24, 2025, that it would conduct expedited reviews (90 FR 60741, December 29, 2025).

The Commission made these determinations pursuant to section 751(c) of the Act (19 U.S.C. 1675(c)). It completed and filed its determinations in these reviews on February 26, 2026. The views of the Commission are contained in USITC Publication 5710 (February 2026), entitled Ferrovanadium from China and South Africa: Investigation Nos. 731-TA-986-987 (Fourth Review).

By order of the Commission.
Issued: February 26, 2026.
Lisa Barton,
Secretary to the Commission.

[FR Doc. 2026-04160 Filed 3-2-26; 8:45 am]

BILLING CODE 7020-02-P